U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission. The Commission is mandated by Congress to investigate, assess, and report to Congress annually on “the national security implications of the economic relationship between the United States and the People's Republic of China.” Pursuant to this mandate, the Commission will hold a virtual public release of its 2020 Annual Report to Congress in Washington, DC, on December 1, 2020.

DATES: The release is scheduled for Tuesday, December 1, 2020 at 10:30 a.m.

ADDRESSES: This release will be held online. Members of the public will be able to view a live webcast via the Commission's website at www.uscc.gov. Please check the Commission's website for possible changes to the event schedule and instructions on how to submit questions or participate in the question and answer session. Reservations are not required to attend.

FOR FURTHER INFORMATION CONTACT: Any member of the public seeking further information concerning the event should contact Jameson Cunningham, 444 North Capitol Street NW, Suite 602, Washington, DC 20001; telephone: 202-624-1496, or via email at jcunningham@uscc.gov. Reservations are not required to attend.

ADA Accessibility: For questions about the accessibility of the event or to request an accommodation, please contact Jameson Cunningham at 202-624-1496, or via email at jcunningham@uscc.gov. Requests for an accommodation should be made as soon as possible, and at least five business days prior to the event.

SUPPLEMENTARY INFORMATION:

Topics To Be Discussed: The Commission's 2020 Annual Report to Congress addresses key findings and recommendations for Congressional action based upon the Commission's hearings, research, and review of the areas designated by Congress in its mandate, including focused work this year on: China's view of strategic competition with the United States; China's promotion of alternative global norms and standards; China's strategic aims in Africa; vulnerabilities in China's financial system and risks for the United States; U.S.-China links in healthcare and biotechnology; China's growing power projection and expeditionary capabilities; Taiwan; Hong Kong; and a review of economics, trade, security, political, and foreign affairs developments in 2020.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: November 12, 2020.
Daniel W. Peck,
Executive Director, U.S.-China Economic and Security Review Commission.

[FR Doc. 2020-25347 Filed 11-16-20; 8:45 am]

BILLING CODE 1137-00-P